DEPARTMENT OF DEFENSE

Department of the Army; Corps of Engineers

Intent To Prepare a Draft Environmental Impact Statement Titled: Donaldsonville to the Gulf, Hurricane Protection Feasibility Study

AGENCY: Department of the Army, Army Corps of Engineers, DoD.

ACTION: Notice of intent.

SUMMARY: The U.S. Army Corps of Engineers, New Orleans District, is initiating this study under the authority of a United States House of Representative; Transportation and Infrastructure Committee resolution adopted May 6, 1998. This study will investigate the feasibility of constructing a hurricane protection levee from Larose, Louisiana to the western Davis Pond guide levee located east of Boutte, Louisiana. Ecosystem restoration components in the Lac des Allemands drainage basin area north of U.S. Highway 90 will be incorporated into the study. The project location includes Ascension, Assumption, Lafourche, St. Charles, St. James and St. John the Baptist Parishes, Louisiana.

FOR FURTHER INFORMATION CONTACT: Questions concerning the Environmental Impact Statement (EIS) should be addressed to Mr. Gib Owen at U.S. Army Corps of Engineers, PM-RS, P.O. Box 60267, New Orleans, LA 70160-0267, phone (504) 862-1337, fax number (504) 862-2572 or by e-mail at gib.a.owen@mvn02.usace.army.mil.

SUPPLEMENTARY INFORMATION: The resolution authorized a study to determine the feasibility of constructing approximately 55 miles of hurricane protection levee from Larose, Louisiana to the western Davis Pond guide levee located east of Boutte, Louisiana. The proposed levee alignment would start at the Gulf Intracoastal Waterway in Lafourche Parish and proceed north parceling the east side of Bayou Lafourche to U.S. Highway 90 south of Raceland, Louisiana. The alignment would proceed northeast paralleling the south side of U.S. Highway 90 to Bayou Des Allemands. A water control structure would be built at Bayou des Allemands. Levee alignment would proceed northeast from east side of Bayou Des Allemands to join with the west Davis Pond guide levee east of Boutte, Louisiana. Additionally, ecosystem restoration activities and interior drainage issues will be investigated in the Lac des Allemands drainage basin between Donaldsonville and Des Allemands Louisiana.

1. Alternatives

a. Hurricane Levees

Environmental and economic analysis will be used to determine the most practical plan, which would provide for the greatest overall public benefit. Alternatives recommended for consideration include several levee alignments along the east side of the Bayou Lafourche corridor in the vicinity of the wetland/cropland interface. Alternative alignments along the Bayou des Allemands to Davis Pond guide levee corridor would follow existing St. Charles Parish levees or along routes for which the parish has obtained permits. Alternatives will be investigated for levees of various elevations and widths that provide varying levels of protection, to determine the plan with the highest net benefits.

b. Flood Control Structure at Bayou des Allemands

Alternatives will be investigated for several locations where levee would intersect Bayou des Allemands.

c. Ecosystem Restoration Features in the Lac des Allemands Drainage Basin

Ecosystem restoration alternatives being considered include a freshwater diversion from the Mississippi River, breaching of existing spoil banks to create more overland flow of water through the basin, and drainage improvements to prevent stagnation.

2. Scoping

Scoping is the process for determining the range of alternatives and significant issues to be addressed in the EIS. For this analysis, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

A series of public scoping meetings will be held in October and November 2002. Possible meeting site are in the vicinity of Hahnville, Vacherie, Edgard, Gheens, Chackbay, Napoleonville and Donaldsonville, Louisiana. Additional meetings could be held, depending upon interest and if it is determined that further public coordination is warranted.

3. Significant Issues

The tentative list of resources and issues to be evaluated in the EIS includes wetlands (marshes and swamps), bottomland hardwoods, agricultural lands, wildlife resources, aquatic resources including fisheries and essential fish habitat, water quality, air quality, threatened and endangered species, recreation resources, and cultural resources. Socioeconomic items to be evaluated in the EIS include navigation, flood protection, business and industrial activity, employment, land use, property values, public/community facilities and services, tax revenues, population, community and regional growth, transportation, housing, community cohesion, and noise.

4. Environmental Consultation and Review

The U.S. Fish and Wildlife Service (USFWS) will be assisting in the documentation of existing conditions and the assessment of effects of project alternatives through the Fish and Wildlife Coordination Act consultation procedures. The USFWS will provide a Fish and Wildlife Coordination Act report. Consultation will be accomplished with the USFWS and the National Marine Fisheries Service (NMFS) concerning threatened and endangered species and their critical habitat. The NMFS will be consulted on the effects of this proposed action on Essential Fish Habitat. The draft EIS or a notice of its availability will be distributed to all interested agencies, organizations, and individuals.

5. Estimated Date of Availability

Funding levels will dictate the date when the draft EIS is available. The earliest that the draft EIS is expected to be available in the fall of 2004.

Dated: September 16, 2002.
Peter J. Rowan,
Colonel, U.S. Army, District Engineer.

[FR Doc. 02-25182 Filed 10-2-02; 8:45 am]

BILLING CODE 3710-84-P